DEPARTMENT OF TRANSPORTATION

Federal Motor Carrier Safety Administration

Qualification of Drivers; Exemption Applications; Vision

AGENCY: Federal Motor Carrier Safety Administration (FMCSA), DOT.

ACTION: Notice of denials.

SUMMARY: The FMCSA is publishing the names of persons denied exemptions from the vision standard in 49 CFR 391.41(b)(10) and the reasons for the denials.

DATES: May 23, 2000.

FOR FURTHER INFORMATION CONTACT: For information about the applications addressed in this notice, Ms. Teresa Doggett, Office of Bus and Truck Standards and Operations, MC-PSD, (202) 366-2990; for information about legal issues related to this rule, Ms. Judith Rutledge, Office of the Chief Counsel, (202) 366-2519, FMCSA, 400 Seventh Street, SW., Washington, D.C. 20590-0001. Office hours are from 7:45 a.m. to 4:15 p.m., e.t., Monday through Friday, except Federal holidays.

SUPPLEMENTARY INFORMATION:

Electronic Access

An electronic copy of this document may be downloaded using a modem and suitable communications software from the Government Printing Office's Electronic Bulletin Board Service at (202) 512-1661. Internet users may reach the Office of the Federal Registers home page at: http://www.nara.gov/fedreg and the Government Printing Office's database at: http://www.access.gpo.gov/nara.

Background

The Secretary of Transportation (Secretary) has the authority under 49 U.S.C. 31502 and 31136 to establish standards for physical qualifications that must be met by commercial motor vehicle drivers in interstate commerce. These standards are published in 49 CFR part 391 of the Federal Motor Carrier Safety Regulations.

In October 1999, the Secretary rescinded the authority previously delegated to the Federal Highway Administrator to perform the motor carrier functions and operations, and to carry out the duties and powers related to motor carrier safety, that are statutorily vested in the Secretary. That authority was redelegated to the Director of the Office of Motor Carrier Safety (OMCS), a new office within the Department (64 FR 56270, October 19, 1999, and 64 FR 58356, October 29, 1999). The OMCS had previously been the FHWA's Office of Motor Carriers (OMC).

The Motor Carrier Safety Improvement Act of 1999 established the Federal Motor Carrier Safety Administration (FMCSA) as a new operating administration within the Department of Transportation, effective January 1, 2000 (Pub. L. No. 106-159, 113 Stat. 1748, December 9, 1999). The Secretary therefore rescinded the motor carrier authority delegated to the Director of the OMCS and redelegated it to the Administrator of the FMCSA (65 FR 220, January 4, 2000).

The staff previously assigned to the FHWA's OMC, and then to the OMCS, are now assigned to the FMCSA. The motor carrier functions of the FHWA's Resource Centers and Division (i.e., State) Offices have been transferred without change to the FMCSA Resource Centers and FMCSA Division Offices, respectively. For the time being, all phone numbers and addresses are unchanged. Similarly, rulemaking activities begun under the auspices of the FWHA and continued under the OMCS will be completed by the FMCSA.

On June 9, 1998, the FHWA's waiver authority changed with enactment of the Transportation Equity Act for the 21st Century (TEA-21), Public Law 105-178, 112 Stat. 107. Section 4007 of TEA-21 amended the waiver provisions of 49 U.S.C. 31136(e) and 31315 to change the standard for evaluating waiver requests, to distinguish between a waiver and an exemption, and to establish term limits for both. Under revised section 31136(e), the FMCSA may grant a waiver for a period of up to 3 months or an exemption for a renewable 2-year period.

The amendments to 49 U.S.C. 31136(e) also changed the criteria for exempting a person from application of a regulation. Previously an exemption was appropriate if it was consistent with the public interest and the safe operation of CMVs. Now the FMCSA may grant an exemption if it finds “such exemption would likely achieve a level of safety that is equivalent to, or greater than, the level that would be achieved absent such exemption.” According to the legislative history, the Congress changed the statutory standard to give the agency greater discretion to consider exemptions. The previous standard was judicially construed as requiring an advance determination that absolutely no reduction in safety would result from an exemption. The Congress revised the standard to require that an “equivalent” level of safety be achieved by the exemption.

The FMCSA individually evaluated 141 exemption requests on their merits, as required by the decision in Rauenhorst v. United States Department of Transportation, Federal Highway Administration, 95 F. 3d. 715 (8th Cir. 1996), and determined that the applicants do not satisfy the criteria established to demonstrate that granting the exemptions is likely to achieve an equal or greater level of safety than exists without the exemption. Each applicant has, prior to this notice, received a letter of final disposition on his/her individual exemption request. Those decision letters fully outlined the basis for the denial and constitute final agency action. The list published today summarizes the agency's recent denials as required under 49 U.S.C. 31315(b)(4) by periodically publishing names and reason for denials.

Ninety-two applicants lacked sufficient recent driving experience over the past 3 years. Twenty-nine applicants lacked at least 3 years of experience driving a commercial motor vehicle with the vision deficiency. Fourteen applicants had no experience driving a commercial motor vehicle and therefore presented no evidence from which the FMCSA could conclude that granting the exemption would likely achieve a level of safety equal to that existing without the exemption. Two drivers had waivers for the loss of a limb and therefore could not qualify for a vision exemption because they did not satisfy all other physical qualification standards in 49 CFR 391.41(b) to drive a commercial motor vehicle. In addition to their vision deficiency, they had missing limbs. One driver was diagnosed with high blood pressure, in addition to the vision deficiency, and could not qualify for the vision exemption because the physical qualification standards could not be satisfied. Another driver could not qualify for the exemption because he was convicted of three speeding violations in a three-year period and received a fourth speeding violation during the application process. An applicant for the vision exemption is only allowed two violations in a three-year period.

The agency is required to publish the names of persons who were not granted an exemption from the Federal vision requirements and the reasons for not granting the exemptions. The FMCSA has declined to consider the following applications for exemptions from the Federal vision requirements at 49 CFR 391.41(b)(10) because they lack sufficient evidence of the necessary criteria to find “such exemptions would likely achieve a level of safety that is equivalent to or greater than, the level that would be achieved absent such exemption.”

Summary of Causes for Not Granting Exemptions

The FMCSA is not granting the following petitions for exemption from the vision standard in 49 CFR 391.41(b)(10). In accordance with 49 U.S.C. 31315(b)(4) and 31136(e), the agency is publishing notice of the names of the applicants and reasons for not granting exemptions.

1. Eldo J. Haugen

Mr. Haugen was diagnosed with high blood pressure and therefore does not meet all other physical requirements, excluding vision, to qualify for an exemption. He does not qualify for an exemption because he is not “otherwise qualified” to drive a CMV.

2. Gary A. Smith

Mr. Smith does not have sufficient driving experience over the past 3 years under normal highway operating conditions that would serve as an adequate predictor of future safe performance.

3. Louis Ingwersen

Mr. Ingwersen does not have sufficient driving experience over the past 3 years under normal highway operating conditions that would serve as an adequate predictor of future safety performance.

4. Jefferson S. Thomas

Mr. Thomas does not have sufficient driving experience over the past 3 years under normal highway operating conditions that would serve as an adequate predictor of future safety performance.

5. Lloyd H. Walters

Mr. Walters does not have sufficient driving experience over the past 3 years under normal highway operating conditions that would serve as an adequate predictor of future safety performance.

6. Robert L. Bowman

Mr. Bowman does not have sufficient driving experience over the past 3 years under normal highway operating conditions that would serve as an adequate predictor of future safety performance.

7. Martin G. Taylor

Mr. Taylor does not have 3 years of experience driving a commercial vehicle with his vision deficiency.

8. Alvin F. Schroll

Mr. Schroll does not have sufficient driving experience over the past 3 years under normal highway operating conditions that would serve as an adequate predictor of future safety performance.

9. Lawrence A. Lundquist

Mr. Lundquist does not have sufficient driving experience over the past 3 years under normal highway operating conditions that would serve as an adequate predictor of future safety performance.

10. Ronald A. Mills

Mr. Mills does not have 3 years recent experience driving a commercial vehicle with his vision deficiency.

11. Norman E. Schluter

Mr. Schluter does not have sufficient driving experience over the past 3 years under normal highway operating conditions that would serve as an adequate predictor of future safety performance.

12. Roland R. Strempke

Mr. Strempke does not have any experience driving a commercial motor vehicle with his vision deficiency.

13. Carolyn M. Beauvais

Ms. Beauvais has no experience operating a commercial motor vehicle and therefore presented no evidence from which the FMCSA can conclude that granting the exemption is likely to achieve a level of safety equal to that existing without the exemption.

14. Robert L. Slayden, Jr.

Mr. Slayden does not have sufficient driving experience over the past 3 years under normal highway operating conditions that would serve as an adequate predictor of future safety performance.

15. Gary D. Beavers

Mr. Beavers does not have sufficient driving experience over the past 3 years under normal highway operating conditions that would serve as an adequate predictor of future safety performance.

16. Mitchell L. Carson

Mr. Carson has no experience operating a commercial motor vehicle and therefore presented no evidence from which the FMCSA can conclude that granting the exemption is likely to achieve a level of safety equal to that existing without the exemption.

17. Willis M. Reeves

Mr. Reeves does not have sufficient driving experience over the past 3 years under normal highway operating conditions that would serve as an adequate predictor of future safe performance.

18. Harold E. Pepperling

Mr. Pepperling does not have sufficient driving experience over the past 3 years under normal highway operating conditions that would serve as an adequate predictor of future safe performance.

19. James E. Rhodes, II

Mr. Rhodes does not have sufficient driving experience over the past 3 years under normal highway operating conditions that would serve as an adequate predictor of future safe performance.

20. Ronald D. Danberry

Mr. Danberry does not have sufficient driving experience over the past 3 years under normal highway operating conditions that would serve as an adequate predictor of future safe performance.

21. Jimmy Joe Dougherty

Mr. Dougherty does not have sufficient driving experience over the past 3 years under normal highway operating conditions that would serve as an adequate predictor of future safe performance.

22. Frank D. Pfeifer

Mr. Pfeifer has an amputation of his left hand and currently holds a Waiver of Physical Defects. As he does not meet all of the other physical standards in 49 CFR 391.41, without any other waiver or exemption, he failed to satisfy the criteria applied to evaluate vision exemption requests. In light of the recent decision in Parker v. FHWA, 207 F.3d 359 (6th Cir. 2000), we will reconsider Mr. Pfeifer's application consistent with the court's holding.

23. William R. Bass, Jr.

Mr. Bass does not have sufficient driving experience over the past 3 years under normal highway operating conditions that would serve as an adequate predictor of future safe performance.

24. Roger D. Smith

Mr. Smith does not have sufficient driving experience over the past 3 years under normal highway operating conditions that would serve as an adequate predictor of future safe performance.

25. John C. Anderson

Mr. Anderson does not have 3 years of experience driving a commercial motor vehicle with his vision deficiency.

26. Jimmy R. Hollingshad

Mr. Hollingshad has no experience operating a commercial motor vehicle and therefore presented no evidence from which the FMCSA can conclude that granting the exemption is likely to achieve a level of safety equal to that existing without the exemption.

27. Nikki B. Strom

Ms. Strom does not have sufficient driving experience over the past 3 years under normal highway operating conditions that would serve as an adequate predictor of future safe performance.

28. Odell Scott

Mr. Scott does not have sufficient driving experience over the past 3 years under normal highway operating conditions that would serve as an adequate predictor of future safe performance. Mr. Scott has a revocation of his CDL which also disqualifies him from receiving an exemption.

29. Thomas W. Markham

Mr. Markham does not have sufficient driving experience over the past 3 years under normal highway operating conditions that would serve as an adequate predictor of future safe performance.

30. Barry I. Murtha

Mr. Murtha does not have 3 years of experience driving a commercial vehicle with his vision deficiency.

31. Mark A. Miller

Mr. Miller does not have sufficient driving experience over the past 3 years under normal highway operating conditions that would serve as an adequate predictor of future safe performance.

32. Russell D. Mertens

Mr. Mertens does not have sufficient driving experience over the past 3 years under normal highway operating conditions that would serve as an adequate predictor of future safe performance.

33. Robert H. Niederdeppe

Mr. Niederdeppe does not have 3 years of experience driving a commercial motor vehicle with his vision deficiency.

34. Thomas E. Hammond, Sr.

Mr. Hammond does not have sufficient driving experience over the past 3 years under normal highway operating conditions that would serve as an adequate predictor of future safe performance.

35. Michael Dupell

Mr. Dupell does not have sufficient driving experience over the past 3 years under normal highway operating conditions that would serve as an adequate predictor of future safe performance.

36. Kenneth L. Taylor

Mr. Taylor does not have 3 years of experience driving a commercial motor vehicle with his vision deficiency.

37. Marvin L. Muilenburg

Mr. Muilenburg does not have sufficient driving experience over the past 3 years under normal highway operating conditions that would serve as an adequate predictor of future safe performance.

38. Gregory B. Roberts

Mr. Roberts does not have sufficient driving experience over the past 3 years under normal highway operating conditions that would serve as an adequate predictor of future safe performance.

39. Abe A. Fehr

Mr. Fehr does not have sufficient driving experience over the past 3 years under normal highway operating conditions that would serve as an adequate predictor of future safe performance.

40. Jerry L. Paulsen

Mr. Paulsen does not have sufficient driving experience over the past 3 years under normal highway operating conditions that would serve as an adequate predictor of future safe performance.

41. Timothy D. McDaniel

Mr. McDaniel has no experience operating a commercial motor vehicle and therefore presented no evidence from which the FMCSA can conclude that granting the exemption is likely to achieve a level of safety equal to that existing without the exemption.

42. David A. Ferguson

Mr. Ferguson does not have 3 years of experience driving a commercial motor vehicle with his vision deficiency.

43. John V. Cascone

Mr. Cascone has no experience operating a commercial motor vehicle and therefore presented no evidence from which the FMCSA can conclude that granting the exemption is likely to achieve a level of safety equal to that existing without the exemption.

44. John D. McCormick

Mr. McCormick does not have 3 years of experience driving a commercial motor vehicle with his vision deficiency.

45. Gary W. Lindsey, Jr.

Mr. Lindsey has no experience operating a commercial motor vehicle and therefore presented no evidence from which the FMCSA can conclude that granting the exemption is likely to achieve a level of safety equal to that existing without the exemption.

46. Mona J. Meyers

Ms. Myers does not have 3 years recent experience driving a commercial motor vehicle with her vision deficiency.

47. Dorian N. Holladay

Mr. Holladay had three commercial motor vehicle speeding violations within a 3-year period while operating a commercial motor vehicle and during the application process he received a fourth speeding violation in a commercial motor vehicle. He does not qualify since each applicant is allowed only 2 citations.

48. Roger D. Duggins

Mr. Duggins does not have sufficient driving experience over the past 3 years under normal highway operating conditions that would serve as an adequate predictor of future safe performance.

49. Duane B. Coggin

Mr. Coggin does not have sufficient driving experience over the past 3 years under normal highway operating conditions that would serve as an adequate predictor of future safe performance.

50. Morris R. Beebe

Mr. Beebe does not have sufficient driving experience over the past 3 years under normal highway operating conditions that would serve as an adequate predictor of future safe performance.

51. Anthony R. Miles

Mr. Miles does not have sufficient driving experience over the past 3 years under normal highway operating conditions that would serve as an adequate predictor of future safe performance.

52. David L. Burroughs

Mr. Burroughs does not have 3 years of experience driving a commercial motor vehicle with his vision deficiency.

53. John D. Prather, Jr.

Mr. Prather does not have sufficient driving experience over the past 3 years under normal highway operating conditions that would serve as an adequate predictor of future safe performance.

54. Eddie M. Brown

Mr. Brown does not have sufficient driving experience over the past 3 years under normal highway operating conditions that would serve as an adequate predictor of future safe performance.

55. Thomas G. Danclovic

Mr. Danclovic does not have sufficient driving experience over the past 3 years under normal highway operating conditions that would serve as an adequate predictor of future safe performance.

56. Kim A. Shaffer

Mr. Shaffer does not have sufficient driving experience over the past 3 years under normal highway operating conditions that would serve as an adequate predictor of future safe performance.

57. James H. Martin

Mr. Martin does not have sufficient driving experience over the past 3 years under normal highway operating conditions that would serve as an adequate predictor of future safe performance.

58. Joseph R. Maillet, Jr.

Mr. Maillet does not have sufficient driving experience over the past 3 years under normal highway operating conditions that would serve as an adequate predictor of future safe performance.

59. Vincent J. Hayhurst

Mr. Hayhurst does not have 3 years of experience driving a commercial motor vehicle with his vision deficiency.

60. David O. Caldwell

Mr. Caldwell does not have 3 years of experience driving a commercial motor vehicle with his vision deficiency.

61. Kenneth G. Mallette

Mr. Mallette does not have 3 years of experience driving a commercial motor vehicle with his vision deficiency.

62. Micheal L. Metivier

Mr. Metivier has no experience operating a commercial motor vehicle and therefore presented no evidence from which the FMCSA can conclude that granting the exemption is likely to achieve a level of safety equal to that existing without the exemption.

63. Chris W. Hageman

Mr. Hageman does not have sufficient driving experience over the past 3 years under normal highway operating conditions that would serve as an adequate predictor of future safe performance.

64. Kyle P. McGill

Mr. McGill does not have sufficient driving experience over the past 3 years under normal highway operating conditions that would serve as an adequate predictor of future safe performance.

65. Randall G. Henderson

Mr. Henderson does not have sufficient driving experience over the past 3 years under normal highway operating conditions that would serve as an adequate predictor of future safe performance.

66. Alonza V. Ferrell

Mr. Ferrell does not have 3 years of experience driving a commercial motor vehicle with his vision deficiency.

67. Kenneth W. Lyons

Mr. Lyons does not have sufficient driving experience over the past 3 years under normal highway operating conditions that would serve as an adequate predictor of future safe performance.

68. Howard G. Williams

Mr. Williams does not have sufficient driving experience over the past 3 years under normal highway operating conditions that would serve as an adequate predictor of future safe performance.

69. Dana Quince

Mr. Quince does not have 3 years of recent experience driving a commercial motor vehicle with his vision deficiency.

70. Raymond J. Misslich

Mr. Misslich does not have sufficient driving experience over the past 3 years under normal highway operating conditions that would serve as an adequate predictor of future safe performance.

71. Sherman R. Garrett

Mr. Garrett does not have 3 years of experience driving a commercial motor vehicle with his vision deficiency.

72. Johnny L. Nesbitt, Jr.

Mr. Nesbitt does not have sufficient driving experience over the past 3 years under normal highway operating conditions that would serve as an adequate predictor of future safe performance.

73. David A. Christenson

Mr. Christenson does not have sufficient driving experience over the past 3 years under normal highway operating conditions that would serve as an adequate predictor of future safe performance.

74. Donald A. Verrill

Mr. Verrill does not have sufficient driving experience over the past 3 years under normal highway operating conditions that would serve as an adequate predictor of future safe performance.

75. Dennis C. Madison, Sr.

Mr. Madison does not have 3 years of experience driving a commercial motor vehicle with his vision deficiency.

76. Michael J. Sullivan

Mr. Sullivan has no experience operating a commercial motor vehicle and therefore presented no evidence from which the FMCSA can conclude that granting the exemption is likely to achieve a level of safety equal to that existing without the exemption.

77. Ronald W. Winslow

Mr. Winslow does not have sufficient driving experience over the past 3 years under normal highway operating conditions that would serve as an adequate predictor of future safe performance.

78. Warren Streeter

Mr. Streeter does not have 3 years of experience driving a commercial motor vehicle with his vision deficiency.

79. William J. Wilkins

Mr. Wilkins does not have 3 years of experience driving a commercial vehicle with his vision deficiency.

80. Ambrosio E. Calles

Mr. Calles does not have sufficient driving experience over the past 3 years under normal highway operating conditions that would serve as an adequate predictor of future safe performance.

81. Arnold G. Patchin

Mr. Patchin does not have sufficient driving experience over the past 3 years under normal highway operating conditions that would serve as an adequate predictor of future safe performance.

82. Steven M. Montalbo

Mr. Montalbo does not have sufficient driving experience over the past 3 years under normal highway operating conditions that would serve as an adequate predictor of future safe performance.

83. Leonard D. Berogan

Mr. Berogan has no experience operating a commercial motor vehicle and therefore presented no evidence from which the FMCSA can conclude that granting the exemption is likely to achieve a level of safety equal to that existing without the exemption.

84. Bobby G. Carr

Mr. Carr does not have sufficient driving experience over the past 3 years under normal highway operating conditions that would serve as an adequate predictor of future safe performance.

85. Edward C. Miller

Mr. Miller has no experience operating a commercial motor vehicle and therefore presented no evidence from which the FMCSA can conclude that granting the exemption is likely to achieve a level of safety equal to that existing without the exemption.

86. John E. Kramer

Mr. Kramer does not have sufficient driving experience over the past 3 years under normal highway operating conditions that would serve as an adequate predictor of future safe performance.

87. Donald R. Good

Mr. Good does not have 3 years of experience driving a commercial vehicle with his vision deficiency.

88. Rocky D. Rubink

Mr. Rubink does not have 3 years of experience driving a commercial vehicle with his vision deficiency.

89. Charles L. Croster

Mr. Croster does not have sufficient driving experience over the past 3 years under normal highway operating conditions that would serve as an adequate predictor of future safe performance.

90. Tony E. Parks

Mr. Parks does not have 3 years of experience driving a commercial vehicle with his vision deficiency.

91. Steven G. Lee

Mr. Lee does not have sufficient driving experience over the past 3 years under normal highway operating conditions that would serve as an adequate predictor of future safe performance.

92. John R. Osborne

Mr. Osborne does not have sufficient driving experience over the past 3 years under normal highway operating conditions that would serve as an adequate predictor of future safe performance.

93. James G. Binkley

Mr. Binkley does not have sufficient driving experience over the past 3 years under normal highway operating conditions that would serve as an adequate predictor of future safe performance.

94. James D. Raley

Mr. Raley does not have 3 years of experience driving a commercial vehicle with his vision deficiency.

95. John L. Casner

Mr. Casner does not have 3 years of experience driving a commercial vehicle with his vision deficiency.

96. Dennis J. Christensen

Mr. Christensen does not have sufficient driving experience over the past 3 years under normal highway operating conditions that would serve as an adequate predictor of future safe performance.

97. Charles F. Schmidt

Mr. Schmidt does not have 3 years of experience driving a commercial vehicle with his vision deficiency.

98. Linda L. Billings

Ms. Billings does not have sufficient driving experience over the past 3 years under normal highway operating conditions that would serve as an adequate predictor of future safe performance.

99. Carl D. Hopkins

Mr. Hopkins does not have sufficient driving experience over the past 3 years under normal highway operating conditions that would serve as an adequate predictor of future safe performance.

100. Darin P. Milton

Mr. Milton does not have sufficient driving experience over the past 3 years under normal highway operating conditions that would serve as an adequate predictor of future safe performance.

101. Brian H. Spencer

Mr. Spencer does not have sufficient driving experience over the past 3 years under normal highway operating conditions that would serve as an adequate predictor of future safe performance.

102. Fred A. Christopherson

Mr. Christopherson does not have 3 years of experience driving a commercial vehicle with his vision deficiency.

103. David A. Feindel

Mr. Feindel does not have sufficient driving experience over the past 3 years under normal highway operating conditions that would serve as an adequate predictor of future safe performance.

104. Donald Thompson

Mr. Thompson does not have sufficient driving experience over the past 3 years under normal highway operating conditions that would serve as an adequate predictor of future safe performance.

105. Daniel Hollins

Mr. Hollins does not have sufficient driving experience over the past 3 years under normal highway operating conditions that would serve as an adequate predictor of future safe performance.

106. Christopher J. Kane

Mr. Kane does not have sufficient driving experience over the past 3 years under normal highway operating conditions that would serve as an adequate predictor of future safe performance.

107. Caroleah Baker

Ms. Baker does not have sufficient driving experience over the past 3 years under normal highway operating conditions that would serve as an adequate predictor of future safe performance.

108. Tommy L. McKnight

Mr. McKnight does not have sufficient driving experience over the past 3 years under normal highway operating conditions that would serve as an adequate predictor of future safe performance.

109. Larry E. Dunn

Mr. Dunn does not have sufficient driving experience over the past 3 years under normal highway operating conditions that would serve as an adequate predictor of future safe performance.

110. Melvin T. Bullock

Mr. Bullock does not have sufficient driving experience over the past 3 years under normal highway operating conditions that would serve as an adequate predictor of future safe performance.

111. Gerald L. Craig

Mr. Craig does not have sufficient driving experience over the past 3 years under normal highway operating conditions that would serve as an adequate predictor of future safe performance.

112. Lewis E. Armstrong

Mr. Armstrong does not have sufficient driving experience over the past 3 years under normal highway operating conditions that would serve as an adequate predictor of future safe performance.

113. Edwin J. DarDar

Mr. DarDar does not have sufficient driving experience over the past 3 years under normal highway operating conditions that would serve as an adequate predictor of future safe performance.

114. David E. Miller

Mr. Miller does not have sufficient driving experience over the past 3 years under normal highway operating conditions that would serve as an adequate predictor of future safe performance.

115. Wesley E. Jones

Mr. Jones does not have sufficient driving experience over the past 3 years under normal highway operating conditions that would serve as an adequate predictor of future safe performance.

116. David W. Smith

Mr. Smith does not have sufficient driving experience over the past 3 years under normal highway operating conditions that would serve as an adequate predictor of future safe performance.

117. Michael L. Eckstein, Sr.

Mr. Eckstein does not have sufficient driving experience over the past 3 years under normal highway operating conditions that would serve as an adequate predictor of future safe performance.

118. Michael T. Howes

Mr. Howes does not have sufficient driving experience over the past 3 years under normal highway operating conditions that would serve as an adequate predictor of future safe performance.

119. Peter D. Wehner

Mr. Wehner does not have sufficient driving experience over the past 3 years under normal highway operating conditions that would serve as an adequate predictor of future safe performance.

120. Richard N. Bowling, Sr.

Mr. Bowling does not have sufficient driving experience over the past 3 years under normal highway operating conditions that would serve as an adequate predictor of future safe performance.

121. Kenneth Allen, Jr.

Mr. Allen does not have sufficient driving experience over the past 3 years under normal highway operating conditions that would serve as an adequate predictor of future safe performance.

122. Jerry W. Parker

Mr. Parker has a missing left arm and therefore does not meet all other physical requirements, excluding vision, to qualify for an exemption. The FMCSA is reconsidering its denial in accordance with Parker v. FHWA, 207 F.3d 359 (6th Cir. 2000).

123. Nathan A. Buckles

Mr. Buckles does not have 3 years of experience driving a commercial vehicle with his vision deficiency.

124. Belinda Betancur

Ms. Betancur does not have sufficient driving experience over the past 3 years under normal highway operating conditions that would serve as an adequate predictor of future safe performance.

125. John F. Ellington

Mr. Ellington does not have sufficient driving experience over the past 3 years under normal highway operating conditions that would serve as an adequate predictor of future safe performance.

126. Eric D. Bennett

Mr. Bennett does not have 3 years of experience driving a commercial vehicle with his vision deficiency.

127. Jerry D. Lawson

Mr. Lawson does not have sufficient driving experience over the past 3 years under normal highway operating conditions that would serve as an adequate predictor of future safe performance.

128. Jimmy L. Spates

Mr. Spates does not have sufficient driving experience over the past 3 years under normal highway operating conditions that would serve as an adequate predictor of future safe performance.

129. Steve L. Hopkins

Mr. Hopkins does not have sufficient driving experience over the past 3 years under normal highway operating conditions that would serve as an adequate predictor of future safe performance.

130. Willie O. Evans, Sr.

Mr. Evans has no experience operating a commercial motor vehicle and therefore presented no evidence from which the FMCSA can conclude that granting the exemption is likely to achieve a level of safety equal to that existing without the exemption.

131. Jimmy Cuttino

Mr. Cuttino has no experience operating a commercial motor vehicle and therefore presented no evidence from which the FMCSA can conclude that granting the exemption is likely to achieve a level of safety equal to that existing without the exemption.

132. Anthony L. Dewalt

Mr. Dewalt does not have sufficient driving experience over the past 3 years under normal highway operating conditions that would serve as an adequate predictor of future safe performance.

133. Scott K. Kenyon

Mr. Kenyon has no experience operating a commercial motor vehicle and therefore presented no evidence from which the FMCSA can conclude that granting the exemption is likely to achieve a level of safety equal to that existing without the exemption.

134. Raymond E. Umphrey

Mr. Umphrey does not have 3 years of experience driving a commercial vehicle with his vision deficiency.

135. William R. Farrington

Mr. Farrington does not have 3 years of experience driving a commercial vehicle with his vision deficiency.

136. Donald S. Ellison

Mr. Ellison does not have sufficient driving experience over the past 3 years under normal highway operating conditions that would serve as an adequate predictor of future safe performance.

137. Scott Alan Boyd

Mr. Boyd has no experience operating a commercial motor vehicle and therefore presented no evidence from which the FMCSA can conclude that granting the exemption is likely to achieve a level of safety equal to that existing without the exemption.

138. Robert E. Almond

Mr. Almond does not have 3 years of experience driving a commercial vehicle with his vision deficiency.

139. Christopher F. Vanstory

Mr. Vanstory does not have 3 years of experience driving a commercial vehicle with his vision deficiency.

140. Robert L. Nix

Mr. Nix does not have 3 years of experience driving a commercial vehicle with his vision deficiency.

141. Ofelio Estrada

Mr. Estrada does not have sufficient driving experience over the past 3 years under normal highway operating conditions that would serve as an adequate predictor of future safe performance.

Authority: 49 U.S.C. 322, 31315, and 31136; 49 CFR 1.73

Issued on: May 12, 2000.
Julie Anna Cirillo,
Acting Deputy Administrator.

[FR Doc. 00-12929 Filed 5-22-00; 8:45 am]

BILLING CODE 4910-22-P